NATIONAL FOUNDATION FOR THE ARTS AND THE HUMANITIES

Submission for OMB Review, Comment Request, Proposed Collection: Sustainability of Digitized Special Collections

AGENCY: Institute of Museum and Library Services, The National Foundation for the Arts and the Humanities.

ACTION: Submission for OMB Review, Comment Request.

SUMMARY: The Institute of Museum and Library Services announces that the following information collection has been submitted to the Office of Management and Budget (OMB) for review and approval in accordance with the Paperwork Reduction Act (44 U.S.C. Chapter 35). This program helps to ensure that requested data can be provided in the desired format, reporting burden (time and financial resources) is minimized, collection instruments are clearly understood, and the impact of collection requirements on respondents can be properly assessed.

A copy of the proposed information collection request, with applicable supporting documentation, may be obtained by contacting the individual listed below in the ADDRESSES section of this notice.

DATES: Written comments must be submitted to the office listed in the addressee section below on or before September 18, 2011.

OMB is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Chuck Thomas, Senior Program Officer, Institute of Museum and Library Services, 1800 M Street, NW., 9th Floor, Washington, DC 20036. Telephone: 202-653-4663. E-mail: cthomas@imls.gov or by teletype (TTY/TDD) for persons with hearing difficulty at 202-653-4614.

SUPPLEMENTARY INFORMATION: The Institute of Museum and Library Services (IMLS) is an independent Federal grant-making agency and is the primary source of Federal support for the Nation's 123,000 libraries and 17,500 museums. IMLS provides a variety of grant programs to assist the Nation's museums and libraries in improving their operations and enhancing their services to the public. IMLS conducts policy research, analysis, and data collection to extend and improve the Nation's museum, library, and information services. The policy research, analysis, and data collection is used to: Identify national needs for and trends in museum, library, and information services; measure and report on the impact and effectiveness of museum, library, and information services throughout the United States; identify best practices; and develop plans to improve museum, library, and information services of the United States and strengthen national, State, local, regional, and international communications and cooperative networks. (20 U.S.C. Chapter 72, 20 U.S.C. 9108).

Abstract: Libraries and museums have invested in digitizing their rare or unique special collections content, often with funds from the government. The data collection phase of this project will provide a much-needed landscape of the current activities and costs incurred by institutions that host and manage digitized special collections. The subsequent case studies will permit a deeper exploration of strategies that project leaders are using to make these resources most valuable to users.

Current Actions: This notice proposes clearance of the Sustaining Digitized Special Collections and Archives Survey. The 60-day notice for the Sustaining Digitized Special Collections and Archives Survey was published in the Federal Register on May 31, 2011, (FR vol. 76, No. 104, pg. 31367). No comments were received.

Agency: Institute of Museum and Library Services.

Title: Sustainability of Digitized Special Collections.

OMB Number: To be determined.

Agency Number: 3137.

Frequency: One-time survey of no more than 761 reference-service providers.

Affected Public: State, Local and Tribal Government, General public, libraries, museums.

Number of Respondents: 761.

Total burden hours: 543.08.

Total cost for respondents: $24,279.61.

Total Annualized Capital/Startup Costs: $24,279.61.

Total Annual Costs: N/A.

FOR FURTHER INFORMATION CONTACT: Comments should be sent to Office of Information and Regulatory Affairs, Attn.: OMB Desk Officer for Education, Office of Management and Budget, Room 10235, Washington, DC 20503, (202) 395-7316.

Dated: August 15, 2011.
Kim A. Miller,
Management Analyst, Institute of Museum & Library Services.

[FR Doc. 2011-21168 Filed 8-18-11; 8:45 am]

BILLING CODE 7036-01-P